CONSUMER PRODUCT SAFETY COMMISSION

Sunshine Act Meeting

TIME AND DATE: Friday, November 1, 2002, 10 a.m.

LOCATION: Room 420, East West Towers, 4330 East West Highway, Bethesda, Maryland.

STATUS: Open to the Public.

MATTER TO BE CONSIDERED:

Petition to HP 99-1 Polyvinyl Chloride (PVC) (Decision)

The Commission will consider options relating to Petition to HP 99-1 requesting ban of polyvinyl chloride (PVC) in all toys and other products intended for children five years of age and under.

For a recorded message containing the latest agenda information, call (301) 504-0709.

CONTACT PERSON FOR ADDITIONAL INFORMATION: Todd A. Stevenson, Office of the Secretary, 4330 East West Highway, Bethesda, MD 20207, (301) 504-0800.

Dated: October 23, 2002.
Todd A. Stevenson,
Secretary.

[FR Doc. 02-27410 Filed 10-23-02; 2:35 pm]

BILLING CODE 6355-01-M